DEPARTMENT OF COMMERCE

International Trade Administration

[C-570-953]

Narrow Woven Ribbons With Woven Selvedge From the People's Republic of China: Notice of Court Decision Not in Harmony With Final Results of the 2015 Administrative Review and Notice of Amended Final Results

AGENCY: Enforcement and Compliance, International Trade Administration, Department of Commerce.

ACTION: Notice of Court Decision.

SUMMARY: On July 31, 2020, the United States Court of International Trade (the Court) sustained the Department of Commerce's (Commerce's) remand redetermination pertaining to the 2015 administrative review of the countervailing duty (CVD) order on narrow woven ribbons with woven selvedge (ribbons) from the People's Republic of China (China). Commerce is notifying the public that the Court has made a final judgment that is not in harmony with the final results of the 2015 administrative review, and that Commerce is amending the final results of the 2015 administrative review with respect to Yama Ribbons and Bows Co., Ltd. (Yama).

DATES: Applicable August 17, 2020.

FOR FURTHER INFORMATION CONTACT: Terre Keaton Stefanova and Ian Hamilton, AD/CVD Operations, Office II, Enforcement and Compliance, International Trade Administration, U.S. Department of Commerce, 1401 Constitution Avenue NW, Washington, DC 20230; telephone: (202) 482-1280 and (202) 482-4798, respectively.

SUPPLEMENTARY INFORMATION:

Background

On March 14, 2018, Commerce published the Final Results pertaining to mandatory respondent Yama.¹ The period of review (POR) is January 1, 2015 through December 31, 2015. In the Final Results, Commerce found that the use of adverse facts available (AFA) was warranted in determining the countervailability of the Export Buyer's Credit Program (EBCP) because the Government of China (GOC) did not provide the requested information needed to allow Commerce to fully analyze this program and, thus, did not cooperate to the best of its ability in response to our information requests.² Yama challenged Commerce's determination to apply AFA with respect to this program in the Final Results.

¹ See Narrow Woven Ribbons with Woven Selvedge from the People's Republic of China: Final Results of Countervailing Duty Administrative Review; 2015, 83 FR 11177 (March 14, 2018) (Final Results), and accompanying Issues and Decision Memorandum (IDM).

² See Final Results IDM at Comment 2.

On December 30, 2019, the Court remanded the Final Results to Commerce to reconsider our decision to apply AFA with respect to the EBCP.³ On February 28, 2020, Commerce reconsidered its decision to apply AFA in evaluating Yama's use of the EBCP and determined, under protest, that Yama did not use the EBCP program.⁴ Accordingly, Commerce calculated a revised subsidy rate of 12.83 percent for Yama.⁵ On July 31, 2020, the Court sustained Commerce's Remand Results and entered final judgment.⁶

³ See Yama Ribbons and Bows Co. v. United States, 419 F. Supp. 3d 1341 (CIT 2019).

⁴ See Final Results of Redetermination Pursuant to Court Remand, Consol. Ct. No. 18-00054, Slip Op. 19-173 (February 28, 2020) (Remand Results).

⁵ Id. at 4.

⁶ See Yama Ribbons and Bows Co. v. United States, Ct. No. 18-00054, Slip Op. 20-107 (CIT July 31, 2020).

Timken Notice

In its decision in Timken,⁷ as clarified by Diamond Sawblades,⁸ the Court of Appeals for the Federal Circuit (Federal Circuit) held that, pursuant to section 516A of the Tariff Act of 1930, as amended (the Act), Commerce must publish a notice of court decision that is not “in harmony” with a Commerce determination and must suspend liquidation of entries pending a “conclusive” court decision.⁹ The Court's July 31, 2020, judgment constitutes a final decision of that court that is not in harmony with Commerce's Final Results. Thus, this notice is published in fulfillment of the publication requirements of Timken and section 516A of the Act. Accordingly, Commerce will continue the suspension of liquidation of ribbons subject to this review pending expiration of the period of appeal or, if appealed, pending a final and conclusive court decision.

⁷ See Timken Co. v. United States, 893 F.2d 337 (Fed. Cir. 1990) (Timken).

⁸ See Diamond Sawblades Mfrs. Coalition v. United States, 626 F.3d 1374 (Fed. Cir. 2010) (Diamond Sawblades).

⁹ See sections 516A(c) and (e) of the Act.

Amended Final Results

Because there is now a final court decision, Commerce is amending its Final Results with respect to the subsidy rate calculated for Yama. Based on the Remand Results, as affirmed by the Court, the revised subsidy rate for Yama for the POR is 12.83 percent.¹⁰

¹⁰ See Remand Results at 4.

In the event that the Court's ruling is not appealed, or, if appealed, is upheld by a final and conclusive court decision, Commerce will instruct U.S. Customs and Border Protection to assess countervailing duties on unliquidated entries of subject merchandise based on the revised subsidy rates summarized above.

Notification to Interested Parties

This notice is issued and published in accordance with sections 516A(c)(1) and (e), and 777(i)(1) of the Act.

Dated: August 5, 2020.
Jeffrey I. Kessler,
Assistant Secretary for Enforcement and Compliance.

[FR Doc. 2020-17521 Filed 8-10-20; 8:45 am]

BILLING CODE 3510-DS-P